DEPARTMENT OF THE INTERIOR

Bureau of Land Management

Notice of Public Meeting: Resource Advisory Council to the Boise District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC), will meet as indicated below.

DATES: The meeting will be held February 8, 2005, beginning at 9 a.m. and adjourning at 4 p.m. at the Marsing Community Center, located at 126 Bruneau Highway, Marsing, ID. Public comment periods will be held after topics on the agenda.

FOR FURTHER INFORMATION CONTACT: MJ Byrne, Public Affairs Officer and RAC Coordinator, Boise District, 3948 Development Ave., Boise, ID 83705, Telephone (208) 384-3393.

SUPPLEMENTARY INFORMATION: The 15-member Council advises the Secretary of the Interior, through the Bureau of Land Management, on a variety of planning and management issues associated with public land management in southwestern Idaho. At this meeting, the following actions will occur/topics will be discussed:

• Election of officers;

• Subcommittee Reports:

○ Sage Grouse Habitat Management;

○ U.S. Fish and Wildlife Service “Not Warranted” listing decision regarding Sage-Grouse;

○ Wind Energy Draft Programmatic Environmental Impact Statement, and an overview of Wind Energy projects in Idaho;

○ Off-Highway Vehicles (OHV) and Transportation Management;

○ Update on Off-Highway Vehicle Route Designation progress in the Boise District;

○ Resource Management Plans;

○ Update on draft alternatives for the Bruneau and Snake River Birds of Prey National Conservation Area Resource Management Plans, and;

• River and Recreation Management.

• Tour of new Marsing Field Office;

• Hot Topics;

• Three Field Office Managers and District Fire Manager provide updates on current issues and planned activities in their Field Offices and the District.

Agenda items may change due to changing circumstances. All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below. Expedited publication is requested to give the public adequate notice.

Dated: January 12, 2005.
Jerry L Taylor,
Associate District Manager.

[FR Doc. 05-996 Filed 1-18-05; 8:45 am]

BILLING CODE 4310-GG-P